DEPARTMENT OF LABOR

Mine Safety and Health Administration

30 CFR Part 57

RIN 1219-AB29

Diesel Particulate Matter Exposure of Underground Metal and Nonmetal Miners

AGENCY: Mine Safety and Health Administration (MSHA), Labor.

ACTION: Final rule; corrections.

SUMMARY: This document contains corrections to the preamble and rule text of the final rule that was published in the Federal Register on Monday, June 6, 2005 (70 FR 32868). The rule relates to diesel particulate matter exposure of underground metal and nonmetal miners.

DATES: Effective July 6, 2005.

FOR FURTHER INFORMATION CONTACT: Rebecca J. Smith, Acting Director, Office of Standards, Regulations, and Variances, MSHA, 1100 Wilson Blvd., Room 2350, Arlington, Virginia 22209-3939; 202-693-9440 (telephone); or 202-693-9441 (facsimile).

The document is available on the Internet at http://www.msha.gov/REGSINFO.HTM.

SUPPLEMENTARY INFORMATION: As published, the preamble and rule text contain errors which may be misleading and need to be corrected.

Accordingly, the preamble is corrected as follows:

1. On page 32889, in the first column, on the last line of the first paragraph, the Federal Register cite should be changed from (66 FR 5765-55767) to (66 FR 5765-5767).

2. On page 32929, in the third column, in the second full paragraph, on the eighteenth line, the word “insure” should be changed to “ensure” so that the sentence reads, “NIOSH's written response to MSHA * * * prior to selection and installation of DPM filter systems to ensure a successful match between filter and application.”

3. On page 32935, in the first column, in the first full paragraph, on the seventh line, the measurement “5 dpm” should be replaced by “5 ppm” so that the sentence reads, “Per company policy, whenever an NO2 monitor (carried by equipment operators) exceeded 5 ppm at the operator's location, that operator was removed to the surface.

In addition, the rule text is corrected as follows:

§ 57.5066 [Corrected]

1. On page 32967, in the second column, on the first line, place quotation marks before and after the word “evidence” in § 57.5066, paragraph (b)(1), so that the sentence reads, “The term “evidence” means * * *.”

2. On page 32967, in the second column, in the second paragraph, in the second sentence, place quotation marks before and after the word “promptly” in § 57.5066, paragraph (b)(2), so that the sentence reads, “The term “promptly” means * * *.”

Dated: June 23, 2005.
David G. Dye,
Deputy Assistant Secretary for Mine Safety and Health.

[FR Doc. 05-12817 Filed 6-29-05; 8:45 am]

BILLING CODE 4510-43-P